DEPARTMENT OF ENERGY

Federal Energy Regulatory Commission

Notice of Meeting

March 22, 2000.

The following notice of meeting is published pursuant to Section 3(a) of the Government in the Sunshine Act (Pub. L. No. 94-409), 5 U.S.C. 552b:

AGENCY HOLDING MEETING: Federal Energy Regulatory Commission.

DATE AND TIME: March 29, 2000 (Following Regular Commission Meeting).

PLACE: Room 2C, 888 First Street, N.E., Washington, D.C. 20426.

STATUS: Closed.

MATTERS TO BE CONSIDERED: Docket No. IN00-1-000, Kinder Morgan Interstate Gas Transmission LLC, et al.

CONTACT PERSON FOR MORE INFORMATION: David P. Boergers, Secretary, Telephone (202) 208-0400.

David P. Boergers,
Secretary.

[FR Doc. 00-7645 Filed 3-23-00; 3:56 pm]

BILLING CODE 6717-01-M